AGENCY FOR INTERNATIONAL DEVELOPMENT

Board for International Food and Agricultural Development; Notice of Meeting

Pursuant to the Federal Advisory Committee Act, notice is hereby given of the public meeting of the Board for International Food and Agricultural Development (BIFAD). The meeting will be held from 9:00 a.m. to 12:00 p.m. on Friday, February 27, 2015 in the Association Multipurpose Room at the Association of Public and Land Grant University Offices, 1307 New York Avenue, Washington, DC. The meeting will be streamed live on the Internet. The link to the global live stream is on BIFAD's home page: http://www.usaid.gov/bifad.

The central theme of this year's meeting will be Human and Institutional Capacity Development in Agricultural Innovation Systems. Dr. Brady Deaton, BIFAD Chair, will preside over the public business meeting, which will begin promptly at 9:00 a.m. with opening remarks. At this public meeting, the Board will address old and new business and hear updates from USAID, the university community, and other experts on how human and institutional capacity development can support agricultural innovation systems.

Starting at 9:15 a.m., Chairman Deaton will moderate a panel to inform BIFAD and the public of engagement of the USAID Bureau for Food Security on agriculture and nutrition dimensions of the global Ebola response. Presenters for this panel are Richard Greene, Senior Deputy Assistant Administrator, Bureau for Food Security and Meredith Soule, Division Chief, Country Strategies and Implementation, Bureau for Food Security.

Starting at 10:00 a.m., Chairman Deaton will moderate a panel on the USAID/BIFAD/APLU Agricultural Exchange on Human and Institutional Capacity Development (AgExchange). BIFAD and USAID with support from the Association of Public Land-grant Universities (APLU) held a three day facilitated online discussion from November 17-20, 2014 around the topic Feeding the World in 2050: How Human and Institutional Capacity Development Can Support Agricultural Innovation Systems. The AgExchange, facilitated by Cultural Practice, was well-attended and brought together various stakeholders from around the world. Deborah Rubin from Cultural Practice will summarize and present the results of the BIFAD/USAID/APLU AgExchange. Responding to these results will be Gretchen Neisler, Director for Global Connection in Food, Agriculture and Natural Resources, and Elon Gilbert, Vice Chairman, Rocky Mountain Biologicals, Inc.

At 11:30 a.m., Chairman Deaton will moderate a half-hour public comment period. At 12:00 p.m. BIFAD Chair Brady Deaton will make closing remarks and adjourn the public meeting.

Those wishing to attend the meeting or obtain additional information about BIFAD should contact Susan Owens, Executive Director and Designated Federal Officer for BIFAD in the Bureau for Food Security at USAID. Interested persons may write to her in care of the U.S. Agency for International Development, Ronald Reagan Building, Bureau for Food Security, 1300 Pennsylvania Avenue NW., Room 2.09-067, Washington, DC 20523-2110 or telephone her at (202) 712-0218.

Susan Owens,
Executive Director and USAID Designated Federal Officer for BIFAD, Bureau for Food Security, U.S. Agency for International Development.

[FR Doc. 2015-02666 Filed 2-9-15; 8:45 am]

BILLING CODE P